DEPARTMENT OF STATE

[Public Notice 7007]

Notice of Closed Meeting of the Cultural Property Advisory Committee

There will be a closed meeting of the Cultural Property Advisory Committee on Wednesday, February 23, 2011, from approximately 9 a.m. to 5 p.m.; Thursday, February 24, 2011, from approximately 9 a.m. to 5 p.m.; and Friday, February 25, 2010, from approximately 9 a.m. to 12 noon at the Department of State, Annex 5, 2200 C Street, NW., Washington, DC.

During its meeting, the Committee will review the cultural property request from the Government of the Hellenic Republic seeking import restrictions on archaeological and ethnological material. An open session to receive oral public comment on this request was held on October 12, 2010; therefore, no open session is scheduled for this meeting. At that time, outside interested parties submitted written comments for the Committee's consideration. A Public Summary of the request from Greece is available at http://exchanges.state.gov/culprop.

The Committee's responsibilities are carried out in accordance with provisions of the Convention on Cultural Property Implementation Act (19 U.S.C. 2601 et seq.). The text of the Act and related information may be found at http://exchanges.state.gov/culprop.

The meeting will be closed pursuant to 5 U.S.C. 552b(c)(9)(B) and 19 U.S.C. 2605(h), the latter of which stipulates that “The provisions of the Federal Advisory Committee Act shall apply to the Cultural Property Advisory Committee except that the requirements of subsections (a) and (b) of section 10 and 11 of such Act (relating to open meetings, public notice, public participation, and public availability of documents) shall not apply to the Committee, whenever and to the extent it is determined by the President or his designee that the disclosure of matters involved in the Committee's proceedings would compromise the Government's negotiation objectives or bargaining positions on the negotiations of any agreement authorized by this title.”

Dated: January 28, 2011.
Ann Stock,
Assistant Secretary, Bureau of Educational and Cultural Affairs, Department of State.

[FR Doc. 2011-2397 Filed 2-2-11; 8:45 am]

BILLING CODE 4710-05-P